DEPARTMENT OF LABOR

Employment and Training Administration

National Farmworker Jobs Program (NFJP) Information Collection Forms; Comment Request for Regular Extension of Approval (With Revisions)

AGENCY: Employment and Training Administration (ETA), Department of Labor.

ACTION: Notice.

Overview Information

Comment Request for Regular Extension of approval (with revisions) for the National Farmworker Jobs Program (NFJP) information collection forms: the Grant Plan Narrative, the Budget Information Summary (BIS), ETA Form 9093, the Program Planning Summary (PPS), ETA Form 9094, the Program Status Summary (PSS), ETA Form 9095; the Workforce Investment Act Standardized Participant Record (WIASPR), and the Housing Assistance Summary (HAS), ETA Form 9164.

SUMMARY: The Department of Labor (Department), as part of its continuing effort to reduce paperwork and respondent burden, conducts a preclearance consultation program to provide the general public and Federal agencies with an opportunity to comment on proposed and/or continuing collections of information in accordance with the Paperwork Reduction Act of 1995 [44 U.S.C. 3506(c)(A)]. This program helps to ensure that requested data can be provided in the desired format, reporting burden (time and financial resources) is minimized, collection instruments are clearly understood, and the impact of collection requirements on respondents can be properly assessed.

Currently, ETA is soliciting comments concerning the collection of data supporting the NFJP (expires December 31, 2012). A copy of the proposed information collection request (ICR) can be obtained by contacting the office listed below in the addresses section of this notice.

DATES: Written comments must be submitted to the office listed in the addresses section below on or before November 6, 2012.

ADDRESSES: Submit written comments to: Amy Young, Employment and Training Administration, Office of Workforce Investment, 200 Constitution Avenue NW., Room C-4510, Washington, DC 20210. Telephone number: 202-693-3045 (this is not a toll-free number). Individuals with hearing or speech impairments may access the telephone number above via TTY by calling the toll-free Federal Information Relay Service at 1-877-889-5627 (TTY/TDD). Fax: 202-693-3015. Email: nfjp@dol.gov. A copy of the proposed information collection request (ICR) can be obtained by sending an email to nfjp@dol.gov, subject line: ETA NFJP Forms ICR copy.

SUPPLEMENTARY INFORMATION:

I. Background

Under the Information Collection Review process, each grantee receiving NFJP funds for employment and training activities is required to submit the following:

• The BIS (ETA-9093) is submitted as part of the annual grant plan, and is used to collect information on how grant funds will be spent during the program year.

• The PPS (ETA-9094) is submitted as part of the annual grant plan, and is used to project the number of participants and the array of services to be provided for the program year.

• The PSS (ETA-9095) is submitted each quarter and is used to collect data on actual participant numbers and services. ETA has added a short section to Form 9095 to collect narrative information on grant activities.

• The WIASPR is submitted each quarter and collects individual participant records containing demographic, service, and outcome data on individuals who exit the program. Data from the WIASPR are used by ETA to calculate the common performance measures for entered employment, retention, and earnings.

• The HAS (ETA-9164), is a new quarterly reporting form for grantees receiving NFJP funds for housing assistance activities. This report will collect data on the number of individuals and families served and narrative information on grant activities.

• All NFJP grantees are required by regulation to submit a grant plan narrative covering the two-year grant period cycle. The grant plan narrative is a comprehensive service delivery plan and a projection of participant services and expenditures. ETA provides guidance to the grantees regarding the content of the annual plan narrative and submission requirements.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension with revisions.

Title: Reporting for the National Farmworker Jobs Program under Section 167 of Title I of the Workforce Investment Act.

OMB Number: 1205-0425.

Affected Public: State or local government agencies; not-for-profit organizations.

Form(s): Grant Plan Narrative, ETA Form 9093, ETA Form 9094, ETA Form 9095, ETA Form 9164, and WIASPR.

Total Estimated Number of Respondents: 294.

Frequency: Grant Plan Narrative, once per year; ETA Form 9093, once per year; ETA Form 9094, once per year; ETA Form 9095, once per quarter; ETA Form 9164, once per quarter; and WIASPR, once per quarter.

Total Annual Responses: 13,969.

Average Time per Response: ETA Form 9093, 15 hours; ETA Form 9094, 16 hours; ETA Form 9095, 17 hours; ETA Form 9164, 17 hours; and WIASPR, 2.25 hours.

Estimated Total Annual Burden Hours: 38,104.

Total Annual Burden Cost for Respondents: $577,275.

Data collection activities/forms | Estimated number of respondents | Frequency per year | Total annual responses | Average time per response (hours) | Estimated annual burden hours | Total annual burden cost
Plan Narrative | 69 | Annually (1) | 69 | 20 | 1,380 | $20,907
Budget Information Summary, ETA Form 9093 | 52 | Annually (1) | 52 | 15 | 780 | 11,817
Program Planning Summary, ETA Form 9094 | 52 | Annually (1) | 52 | 16 | 832 | 12,605
Program Status Summary, ETA Form 9095 | 52 | Quarterly (4) | 208 | 17 | 3,536 | 53,570
WIASPR individual records | * 52 | Quarterly (4) | 13,520 | 2.25 | 30,420 | 460,863
Housing Assistance Summary, ETA Form 9164 | 17 | Quarterly (4) | 68 | 17 | 1,156 | $17,513
Totals | 294 |  | 13,969 | 87.25 | 38,104 | 577,275
* 65 records per grantee.

Comments submitted in response to this comment request will be summarized and/or included in the request for Office of Management and Budget approval of the information collection request; they will also become a matter of public record.

Dated: Signed in Washington, DC, on this 30th day of August, 2012.
Jane Oates,
Assistant Secretary for Employment and Training, Labor.

[FR Doc. 2012-22076 Filed 9-6-12; 8:45 am]

BILLING CODE 4510-FN-P